DEPARTMENT OF TRANSPORTATION

Federal Aviation Administration

14 CFR Parts 121 and 135

[Docket No. FAA-2011-1136; Notice No. 12-07]

RIN 2120-AJ33

Air Carrier Contract Maintenance Requirements; Extension of Comment Period

AGENCY: Federal Aviation Administration (FAA), DOT.

ACTION: Notice of proposed rulemaking (NPRM); extension of comment period.

SUMMARY: This action extends the comment period for an NPRM that was published November 13, 2012. In that rulemaking, the FAA proposed to amend the maintenance regulations for domestic, flag, and supplemental operations, and commuter and on-demand operations for aircraft type certificated with a passenger seating configuration of 10 seats or more (excluding any pilot seat). It would require these operators to develop policies, procedures, methods, and instructions for performing contract maintenance that are acceptable to the FAA and to include them in their maintenance manuals. It would also require the operators to provide a list to the FAA of all persons with whom they contract their maintenance. At the behest of several of their FAA-certificated air carrier members, Regional Air Cargo Carriers Association (RACCA) requested that the FAA extend the comment period closing date to allow time to adequately analyze the NPRM and prepare comments.

DATES: The comment period for the NPRM published on November 13, 2012 (77 FR 67584), was scheduled to close on February 11, 2013, and is extended until March 13, 2013.

ADDRESSES: You may send comments identified by docket number FAA-2011-1136 using any of the following methods:

1. Federal eRulemaking Portal: Go to http://www.regulations.gov and follow the online instructions for sending your comments electronically.

2. Mail: Send comments to Docket Operations, M-30; U.S. Department of Transportation (DOT), 1200 New Jersey Avenue SE., Room W12-140, West Building Ground Floor, Washington, DC 20590-0001.

3. Hand Delivery or Courier: Take comments to Docket Operations in Room W12-140 of the West Building Ground Floor at 1200 New Jersey Avenue SE., Washington, DC, between 9 a.m. and 5 p.m., Monday through Friday, except Federal holidays.

4. Fax: Fax comments to Docket Operations at 202-493-2251.

Privacy: The FAA will post all comments it receives, without change, to http://www.regulations.gov, including any personal information the commenter provides. Using the search function of the docket Web site, anyone can find and read the electronic form of all comments received into any FAA docket, including the name of the individual sending the comment (or signing the comment for an association, business, labor union, etc.). DOT's complete Privacy Act Statement can be found in the Federal Register published on April 11, 2000 (65 FR 19477-19478), as well as at http://DocketsInfo.dot.gov.

Docket: Background documents or comments received may be read at http://www.regulations.gov at any time. Follow the online instructions for accessing the docket or Docket Operations in Room W12-140 of the West Building Ground Floor at 1200 New Jersey Avenue SE., Washington, DC, between 9 a.m. and 5 p.m., Monday through Friday, except Federal holidays.

FOR FURTHER INFORMATION CONTACT: Ralen Gao, Office of Rulemaking, Federal Aviation Administration, 800 Independence Avenue SW., Washington, DC 20591, telephone (202) 267-3168; email ralen.gao@faa.gov.

SUPPLEMENTARY INFORMATION: See the “Additional Information” section for information on how to comment on this proposal and how the FAA will handle comments received. The “Additional Information” section also contains related information about the docket. In addition, there is information on obtaining copies of related rulemaking documents.

Background

On November 13, 2012, the FAA issued Notice No. 12-07, entitled “Air Carrier Contract Maintenance Requirements” (77 FR 67584). Comments to that document were to be received on or before February 11, 2013.

By letter dated January 13, 2013, the Regional Air Cargo Carriers Association (RACCA) requested a 48-day extension of the comment period, to March 31, 2013. The petitioner requested this extension to allow time to adequately assess the impact of the requirements proposed in the NPRM, prepare comments, and develop proposed alternatives. If enacted in its currently-proposed form, RACCA believes the proposed rulemaking would result in significant unintended consequences, including greater operator cost and manpower requirements than those estimated in the NPRM, loss of efficiency, unbudgeted loss of aircraft availability, and a substantial additional workload for the FAA that would result in a diversion of FAA resources from more safety-critical tasks. It further believes that the rulemaking would add complication to the contract maintenance process without a quantifiable improvement in safety, and therefore it would not serve the public's interest.

While the FAA concurs with the petitioner's request for an extension of the comment period on Notice No. 12-07, it does not support a 48-day extension. The FAA finds that an additional 30 days is sufficient for the petitioner to analyze the NPRM and provide meaningful comment to Notice No. 12-07.

Absent unusual circumstances, the FAA does not anticipate any further extension of the comment period for this rulemaking.

Extension of Comment Period

In accordance with § 11.47(c) of Title 14, Code of Federal Regulations, the FAA has reviewed the petition made by RACCA for extension of the comment period to Notice No. 12-07. This petitioner has shown a substantive interest in the proposed rule and good cause for the extension. The FAA has determined that extension of the comment period is consistent with the public interest, and that good cause exists for taking this action.

Accordingly, the comment period for Notice No. 12-07 is extended until March 13, 2013.

Additional Information

A. Comments Invited

The FAA invites interested persons to participate in this rulemaking by submitting written comments, data, or views. The agency also invites comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The agency may change this proposal in light of the comments it receives.

B. Availability of Rulemaking Documents

An electronic copy of rulemaking documents may be obtained from the Internet by—

1. Searching the Federal eRulemaking Portal (http://www.regulations.gov);

2. Visiting the FAA's Regulations and Policies Web page at http://www.faa.gov/regulations_policies; or

3. Accessing the Government Printing Office's Web page at http://www.gpo.gov/fdsys/.

Copies may also be obtained by sending a request to the Federal Aviation Administration, Office of Rulemaking, ARM-1, 800 Independence Avenue SW., Washington, DC 20591, or by calling (202) 267-9680. Commenters must identify the docket or notice number of this rulemaking.

All documents the FAA considered in developing this proposed rule, including economic analyses and technical reports, may be accessed from the Internet through the Federal eRulemaking Portal referenced in item (1) above.

Issued in Washington, DC, February 6, 2013.
Lirio Liu,
Director, Office of Rulemaking.

[FR Doc. 2013-03178 Filed 2-11-13; 8:45 am]

BILLING CODE 4910-13-P